FEDERAL COMMUNICATIONS COMMISSION

[OIA Docket No. 24-30-FR-ID-223083]

Federal Advisory Committee, World Radiocommunication Conference Advisory Committee

AGENCY: Federal Communications Commission.

ACTION: Notice.

SUMMARY: This notice advises interested persons that Informal Working Group 1 (IWG-1), Informal Working Group 2 (IWG-2,) Informal Working Group 3 (IWG-3,) and Informal Working Group 4 (IWG-4) of the 2027 World Radiocommunication Conference Advisory Committee (WRC-27 Advisory Committee) have scheduled meetings as set forth below. The meetings are open to the public.

DATES:

13-Jun IWG-4: 11:00-1:00 ET

13-Jun IWG-3: 2:00-4:00 ET

17-Jun IWG-1: 11:00-1:00 ET

17-Jun IWG-2: 2:00-4:00 ET

20-Jun IWG-4: 11:00-1:00 ET

20-Jun IWG-3: 2:00-4:00 ET

3-Jul IWG-4: 11:00-1:00 ET

3-Jul IWG-3: 2:00-4:00 ET

17-Jul IWG-1: 11:00-1:00 ET

17-Jul IWG-2: 2:00-4:00 ET

19-Jul IWG-4: 11:00-1:00 ET

19-Jul IWG-3: 2:00-4:00 ET

24-Jul IWG-1: 11:00-1:00 ET

24-Jul IWG-2: 2:00-4:00 ET

25-Jul IWG-4: 11:00-1:00 ET

25-Jul IWG-3: 2:00-4:00 ET

31-Jul IWG-1: 11:00-1:00 ET

31-Jul IWG-2: 2:00-4:00 ET

1-Aug IWG-4: 11:00-1:00 ET

1-Aug IWG-3: 2:00-4:00 ET

ADDRESSES: The meetings will be held virtually.

FOR FURTHER INFORMATION CONTACT: Gregory Baker, Designated Federal Official, World Radiocommunication Conference Advisory Committee, FCC Office of International Affairs, Global Strategy and Negotiation Division, at Gregory.Baker@fcc.gov, (202)-919-0758 or WRC-27@fcc.gov.

SUPPLEMENTARY INFORMATION: The FCC established the Advisory Committee to provide advice, technical support and recommendations relating to the preparation of United States proposals and positions for the 2027 World Radiocommunication Conference (WRC-27).

In accordance with the Federal Advisory Committee Act, Public Law 92-463, as amended, this notice advises interested persons of the IWG-1, IWG-2, IWG-3 and IWG-4 of the WRC-27 Advisory Committee scheduled meetings. The Commission's WRC-27 website (www.fcc.gov/wrc-27) contains the latest information on all scheduled meetings, meeting agendas, and WRC-27 Advisory Committee matters.

Below is additional IWG meeting information:

WRC-27 Advisory Committee

Schedule of Meetings of Informal Working Groups 1, 2, 3 and 4

Informal Working Group 1: Maritime, Aeronautical and Radar Services

Chair—Kim Kolb, kim.1.kolb@boeing.com (703) 220-2438

Vice Chair—Nicholas Shrout, njs@asri.aero (443) 951-0335

FCC Representatives: Louis Bell, louis.bell@fcc.gov, telephone: (202) 418-1641; Allen Yang, allen.yang@fcc.gov, telephone: (202) 418-0738; Dante Ibarra, dante.ibarra@fcc.gov, telephone: (202) 418-0610

IWG-1—Meetings:

Dates: Monday, June 17, 2024, Wednesday, July 17, 2024, Wednesday, July 24, 2024, Wednesday, July 31, 2024

Time: 11:00 a.m. ET

https://fcc-gov.zoomgov.com/j/1610847619?pwd=NXozd0djb1lxQ2dWVytlOG1PckF3Zz09

Meeting ID: 161 084 7619

Passcode: 064531

• +1 669 254 5252 US

• +1 669 216 1590 US

Informal Working Group 2: Mobile and Fixed Services

Chair—Daudeline Meme, daudeline.meme@verizon.com, (202) 253-8362

Vice Chair—Reza Arefi, rezaa@apple.com, (202) 235-7298

FCC Representatives: Louis Bell, louis.bell@fcc.gov, telephone: (202) 418-1641; Dante Ibarra, dante.ibarra@fcc.gov, telephone: (202) 418-0610

IWG-2—Meetings:

Dates: Monday, June 17, 2024, Wednesday, July 17, 2024, Wednesday, July 24, 2024, Wednesday, July 31, 2024

Time: 2:00 p.m. ET

https://fcc[1]gov.zoomgov.com/j/1617093171?pwd=ZTVER1NIRDZKVlNMSGhQNnRKU1BFdz09

Meeting ID: 161 709 3171

Passcode: 193943

• +1 669 254 5252 US

• +1 669 216 1590 US

Informal Working Group 3: Fixed-Satellite Service and Regulatory Matters

Chair—Alex Epshteyn, epshteyn@amazon.com, (703) 963-6136

Vice Chair—Ryan Henry, ryan.henry@ses.com, (202) 878-9360

FCC Representatives: Clay DeCell, clay.decell@fcc.gov, telephone: (202) 418-0803; Kathyrn Medley, kathyrn.medley@fcc.gov, telephone: (202) 418-1211; Eric Grodsky, eric.grodsky@fcc.gov, telephone: (202) 418-0563; Dante Ibarra, dante.ibarra@fcc.gov, telephone: (202) 418-0610

IWG-3—Meetings:

Dates: Thursday, June 13, 2024, Thursday, June 20, 2024, Wednesday, July 3, 2024, Friday, July 19, 2024, Thursday, July 25, 2024, Thursday, August 1, 2024

Time: 2:00 p.m. ET

https://fcc-gov.zoomgov.com/j/1607899181?pwd=REdqM0MrUUllUmlsMGRkOFhPTlcvUT09

Meeting ID: 160 789 9181

Passcode: 442135

• +1 669 254 5252 US

• +1 669 216 1590 US

Informal Working Group 4: Mobile Satellite and Space Science Services

Chair—Damon Ladson dladson@hwglaw.com, (202) 730-1315

Vice Chair—George John, george.john@hoganlovells.com, (202) 673-6989

FCC Representatives: Dante Ibarra, dante.ibarra@fcc.gov, telephone: (202) 418-0610; Clay DeCell, clay.decell@fcc.gov, telephone: (202) 418-0803

IWG-4—Meetings:

Dates: Thursday, June 13, 2024, Thursday, June 20, 2024, Wednesday, July 3, 2024, Friday, July 19, 2024, Thursday, July 25, 2024, Thursday, August 1, 2024

Time: 11:00 a.m. ET

https://fcc-gov.zoomgov.com/j/1607899181?pwd=REdqM0MrUUllUmlsMGRkOFhPTlcvUT09

Meeting ID: 160 789 9181

Passcode: 442135

• +1 669 254 5252 US

• +1 669 216 1590 US

Federal Communications Commission.
Thomas Sullivan,
Deputy Chief, Office of International Affairs.

[FR Doc. 2024-12996 Filed 6-12-24; 8:45 am]

BILLING CODE 6712-01-P